DEPARTMENT OF COMMERCE

International Trade Administration

A-570-831

Fresh Garlic from the People's Republic of China: Initiation of Antidumping Duty New Shipper Reviews

AGENCY: Import Administration, International Trade Administration, Department of Commerce.

EFFECTIVE DATE: July 8, 2008.

SUMMARY: The Department of Commerce (Department) has determined that six timely requests for new shipper reviews (NSRs) of the antidumping duty order on fresh garlic from the People's Republic of China (PRC) meet the statutory and regulatory requirements for initiation. For three of the six NSRs which the Department is initiating, the period of review (POR) is November 1, 2007 through April 30, 2008. For the remaining three NSRs where the shipments entered after the POR, the Department is initiating and extending the POR by forty days, pursuant to 19 CFR 351.214(f)(2)(ii).

FOR FURTHER INFORMATION CONTACT: Martha Douthit or Elfi Blum, AD/CVD Operations, Office 6, Import Administration, International Trade Administration, U.S. Department of Commerce, 14th Street and Constitution Avenue, NW, Washington, DC 20230; telephone: (202) 482-5050 or (202) 482-0197, respectively.

SUPPLEMENTARY INFORMATION:

Background

The notice announcing the antidumping duty order on fresh garlic from the PRC was published in the Federal Register on November 16, 1994. See Notice of Antidumping Duty Order: Fresh Garlic from the People's Republic of China, 59 FR 59209 (November 16, 1994) (Order).¹ On May 22, May 23, May 27, and May 30, 2008, pursuant to section 751(a)(2)(B)(i) of the Tariff Act of 1930, as amended (the Act), and 19 CFR 351.214(c), the Department received six timely requests for new shipper reviews (NSR) from Jinxiang Hejia Co., Ltd (Hejia), Weifang Chenglong Import & Export Co., Ltd. (Chenglong), Jinxiang Tianheng Trade Co., Ltd (Tianheng), Juye Homestead Fruits and Vegetables Co., Ltd. (Juye Homestead), Chengwu County Yuanxiang Industry & Commerce, Ltd. (Chengwu), and Shandong Jinxiang Zhengyang Import & Export Co., Ltd. (Zhengyang), respectively. Five companies certified that they are both the producer and exporter of the subject merchandise upon which the requests for NSRs were based. One company, Chenglong, certified that it is the exporter of Jianxiang County Jichao Farm Business Co., Ltd. (Jichao), producer of the subject merchandise.

¹ Therefore, a request for a NSR based on the semi-annual anniversary month, May, was due to the Department by the final day of May 2008. See 19 CFR 351.214(d)(1).

Pursuant to section 751(a)(2)(B)(i)(I) of the Act and 19 CFR 351.214(b)(2)(i), Hejia, Chenglong, Tianheng, Juye Homestead, Chengwu, and Zhengyang certified that they did not export fresh garlic to the United States during the period of investigation (POI). In addition, pursuant to section 751(a)(2)(B)(i)(II) of the Act and 19 CFR 351.214(b)(2)(iii)(A), Hejia, Chenglong, Tianheng, Juye Homestead, Chengwu, and Zhengyang certified that, since the initiation of the investigation, they have never been affiliated with any PRC exporter or producer who exported fresh garlic to the United States during the POI, including those not individually examined during the investigation. As required by 19 CFR 351.214(b)(2)(iii)(B), Hejia, Chenglong, Tianheng, Juye Homestead, Chengwu, and Zhengyang, also certified that their export activities were not controlled by the central government of the PRC.

Pursuant to 19 CFR 351.214(b)(2)(ii)(B), Jichao, the producer of the subject merchandise for Chenglong during the POR, certified that it did not export to the United States during the POI, and has never been affiliated with any exporter or producer who exported the subject merchandise to the United States during the POI.

In addition to the certifications described above, pursuant to 19 CFR 351.214(b)(2)(iv), Hejia, Chenglong, Tianheng, Juye Homestead, Chengwu, and Zhengyang submitted documentation establishing the following: (1) the date on which Hejia, Chenglong, Tianheng, Juye Homestead, Chengwu, and Zhengyang first shipped fresh garlic for export to the United States and the date on which the fresh garlic was first entered, or withdrawn from warehouse, for consumption; (2) the volume of their first shipment;² and (3) the date of their first sale to an unaffiliated customer in the United States.

² Hejia, Chenglong, Tianheng, Juye Homestead, Chengwu, and Zhengyang made no subsequent shipments to the United States.

The Department conducted CBP database queries and confirmed that Hejia, Chenglong, Tianheng, Juye Homestead, Chengwu, and Zhengyang's shipments of subject merchandise had entered the United States for consumption and that liquidation of such entries had been properly suspended for antidumping duties. The Department also confirmed by examining the CBP data that such entries were made during the NSR POR, or shortly thereafter. See Memorandum to File: New Shipper Review of Fresh Garlic from the People's Republic of China, Placing CBP data on the record, dated concurrently with this notice. Under 19 CFR 351.214(f)(2)(ii), when the sale of the subject merchandise occurs within the period of review (POR), but the entry occurs after the normal POR, the POR may be extended unless it would be likely to prevent the completion of the review within the time limits set by the Department's regulations. The preamble to the Department's regulations states that both the entry and the sale should occur during the POR, and that under “appropriate” circumstances the Department has the flexibility to extend the POR. See Antidumping Duties; Countervailing Duties; Final Rule, 62 FR 27296, 27319-27320 (May 19, 1997). In this instance, for three of the exporters requesting a NSR, the sales were made during the POR but the shipments entered shortly after the end of the POR. The exporters provided documentation showing the date of entry following the end of the POR. It is appropriate for the Department to extend the POR by forty days. The Department does not find that this delay would prevent the completion of the review within the time limits set by the Department's regulations.

Initiation of New Shipper Reviews

Pursuant to section 751(a)(2)(B) of the Act and 19 CFR 351.214(d)(1), the Department finds that Hejia, Chenglong, Tianheng, Juye Homestead, Chengwu, and Zhengyang meet the threshold requirements for initiation of a NSR for their shipments of fresh garlic from the PRC. See Memorandum to File: Initiation of AD New Shipper Review: Fresh Garlic from the People's Republic of China, and the attached New Shipper Initiation Checklists, dated concurrently with this notice.

The POR for the three NSRs with shipments which entered during the POR is November 1, 2007 through April 30, 2008. See 19 CFR 351.214(g)(1)(i)(B). As discussed above, under 19 CFR 351.214(f)(2)(ii), when the sale of the subject merchandise occurs within the POR, but the entry occurs after the normal POR, the POR may be extended. Therefore, the POR for the NSR of the remaining three exporters and producers discussed above will be November 1, 2007 through May 31, 2008. The Department intends to issue the preliminary results of these reviews no later than 180 days from the date of initiation, and the final results of these reviews no later than 270 days from the date of initiation. See section 751(a)(2)(B)(iv) of the Act.

On August 17, 2006, the Pension Protection Act of 2006 (H.R. 4) was signed into law. Section 1632 of H.R. 4 temporarily suspends the authority of the Department to instruct CBP to collect a bond or other security in lieu of a cash deposit in new shipper reviews. Therefore, the posting of a bond under section 751(a)(2)(B)(iii) of the Act in lieu of a cash deposit is not available in this case. Importers of fresh garlic from the PRC manufactured and/or exported by Hejia, Chenglong, Tianheng, Juye Homestead, Chengwu, and Zhengyang must continue to post cash deposits of estimated antidumping duties on each entry of subject merchandise at the current PRC-wide rate of 376.67 percent.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: June 30, 2008.
Stephen J. Claeys,
Deputy Assistant Secretary for Import Administration.

[FR Doc. E8-15465 Filed 7-7-08; 8:45 am]

BILLING CODE 3510-DS-S